DEPARTMENT OF HEALTH AND HUMAN SERVICES

Administration for Children and Families

Proposed Information Collection Activity; Evaluation of the National Human Trafficking Hotline: Understanding Engagement With the Community, Law Enforcement, and Other Hotlines (New Collection)

AGENCY: Office of Planning, Research, and Evaluation, Administration for Children and Families, U.S. Department of Health and Human Services.

ACTION: Request for public comments.

SUMMARY: The Administration for Children and Families' (ACF) Office of Planning, Research, and Evaluation (OPRE) is proposing a data collection activity as part of the Evaluation of the National Human Trafficking Hotline (NHTH): Understanding Engagement with the Community, Law Enforcement, and other Hotlines. This data collection activity will examine how the NHTH processes contacts, interacts with law enforcement and other hotline providers, and advertises its services to potential contactors.

DATES: Comments due September 15, 2025. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The purpose of the proposed data collection activity is to document and examine how the NHTH processes contacts across modes and contactor types as well as how those processes compare to other similar hotlines, how the NHTH interacts with law enforcement and implements criteria for sharing tips with law enforcement, how the NHTH interacts with other national hotlines including service coordination and information sharing, and how the NHTH communicates and advertises its services to potential contactors.

The proposed data collection activity includes one-time, semi-structured interviews with:

1. Staff and leadership at the NHTH. Interviews with NHTH staff and leadership will include questions focused on NHTH processes, NHTH data collection, communication with contactors, and interactions with law enforcement regarding sharing tips and other hotlines.

2. Staff and leadership at other national hotlines that are similar in scope to the NHTH. Interviews will include questions focused on their own internal processes as well as interactions with and perceptions of the NHTH.

3. Service providers who regularly engage with the NHTH as well as those who do not regularly engage with the NHTH. Interviews will include questions focused on their interactions with and perceptions of the NHTH.

4. Law enforcement personnel who regularly engage with the NHTH as well as those who do not regularly engage with the NHTH. Interviews will include questions focused on perceptions of actionability of tips that are shared by the NHTH, comparison with tips shared by other hotlines, and the deconfliction process.

Respondents: NHTH staff, staff at other national hotlines, law enforcement personnel, victims service providers.

Annual Burden Estimates: This information collection is expected to take place over about 2 years. Burden estimates are shown as the total over 2 years divided by two to provide an annual average estimate.

Instrument | Number of respondents (total over request period) | Number of responses per respondent (total over request period) | Avg. burden per response (in hours) | Total burden (in hours) | Annual burden (in hours)
NHTH Leadership Interview Guide | 5 | 1 | 1.5 | 7.5 | 3.75
NHTH Staff Interview Guide | 15 | 1 | 1.5 | 22.5 | 11.25
Other Hotline Leadership Interview Guide | 15 | 1 | 1 | 15 | 7.5
Other Hotline Staff Interview Guide | 15 | 1 | 1 | 15 | 7.5
Law Enforcement Interview Guide | 20 | 1 | 1 | 20 | 10
Service Provider Interview Guide | 15 | 1 | 1 | 15 | 7.5

Estimated Total Annual Burden Hours: 47.5

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: Public Law 106-386 Section 107 [22 U.S.C. 7105].)

Mary C. Jones,
ACF/OPRE Certifying Officer.

[FR Doc. 2025-13297 Filed 7-15-25; 8:45 am]

BILLING CODE 4184-50-P